DEPARTMENT OF TRANSPORTATION

Coast Guard

33 CFR Part 100

[CGD 05-01-033]

Special Local Regulations for Marine Events; Approaches to Annapolis Harbor, Spa Creek, and Severn River, Annapolis, MD

AGENCY: Coast Guard, DOT.

ACTION: Notice of implementation.

SUMMARY: The Coast Guard is implementing the special local regulations at 33 CFR 100.511 during a fireworks display to be held July 4, 2001, over the waters of Spa Creek and the Severn River, near the U.S. Naval Academy, Annapolis, Maryland. These special local regulations are necessary to control vessel traffic due to the confined nature of the waterway and expected vessel congestion during the fireworks display. The effect will be to restrict general navigation in the regulated area for the safety of spectators and vessels transiting the event area.

EFFECTIVE DATES: 33 CFR 100.511 is effective from 8:30 p.m. eastern time on July 4, 2001 to 11 p.m. eastern time on July 5, 2001.

FOR FURTHER INFORMATION CONTACT: Lieutenant Dulani Woods, Marine Events Coordinator, Commander, Coast Guard Activities Baltimore, 2401 Hawkins Point Road, Baltimore, MD 21226-1971, (410) 576-2513.

SUPPLEMENTARY INFORMATION: The City of Annapolis will sponsor a fireworks display on July 4, 2001 over the waters of Spa Creek and the Severn River, near the U.S. Naval Academy, Annapolis, Maryland. The temporary special local regulations will be enforced from 8:30 p.m. to 11 p.m. eastern time on July 4, 2001. If the event is postponed due to weather conditions, the temporary special local regulations will be enforced from 8:30 p.m. to 11 p.m. eastern time on July 5, 2001. The fireworks display will be launched from a barge positioned within the regulated area. A fleet of spectator vessels is expected to gather nearby to view the aerial display. In order to ensure the safety of spectators and transiting vessels, 33 CFR 100.511 will be in effect for the duration of the event. Under provisions of 33 CFR 100.511, a vessel may not enter the regulated area unless it receives permission from the Coast Guard Patrol Commander. Spectator vessels may anchor outside the regulated area but may not block a navigable channel.

In addition to this notice, the maritime community will be provided extensive advance notification via the Local Notice to Mariners, marine information broadcasts, and area newspapers, so mariners can adjust their plans accordingly.

Dated: June 21, 2001.
J.E. Shkor,
Vice Admiral, U.S. Coast Guard Commander, Fifth Coast Guard District.

[FR Doc. 01-16589 Filed 6-29-01; 8:45 am]

BILLING CODE 4910-15-P